FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011392-004.

Title: NYKCool/Kyokuyo Discussion Agreement.

Parties: NYKCool AB and Kyokuyo Shipping Co. Ltd.

Filing Party: Wayne R. Rohde, Esq.; Sher & Blackwell LLP; 1850 M Street, NW.; Suite 900; Washington, DC 20036.

Synopsis: The amendment changes the name of NYKLauritzenCool AB to NYKCool AB.

Agreement No.: 011665-009.

Title: Specialized Reefer Shipping Association Agreement.

Parties: NYKLauritzenCool AB and Seatrade Group N.V.

Filing Party: Wayne R. Rohde, Esq.; Sher & Blackwell LLP; 1850 M Street, NW.; Suite 900; Washington, DC 20036.

Synopsis: The amendment changes the name of NYKLauritzenCool AB to NYKCool AB.

Agreement No.: 011870-008.

Title: Indian Subcontinent Discussion Agreement.

Parties: Emirates Shipping Line FZE; Shipping Corporation of India; and Zim Integrated Shipping Services, Ltd.

Filing Party: David F. Smith, Esq.; Sher & Blackwell LLP; 1850 M Street, NW.; Suite 900; Washington, DC 20036.

Synopsis: The amendment removes United Arab Shipping Company (S.A.G.) as party to the agreement.

Agreement No.: 012008-001.

Title: The 360 Quality Association Agreement.

Parties: NYKLauritzenCool AB and Seatrade Group NV.

Filing Party: Wayne R. Rohde, Esq.; Sher & Blackwell LLP; 1850 M Street, NW.; Suite 900; Washington, DC 20036.

Synopsis: The amendment changes the name of NYKLauritzenCool AB to NYKCool AB.

By order of the Federal Maritime Commission.
Dated: October 19, 2007.
Bryant L. VanBrakle,
Secretary.

[FR Doc. E7-20949 Filed 10-23-07; 8:45 am]

BILLING CODE 6730-01-P